POSTAL SERVICE

39 CFR Part 113

New Mailing Standards for the Separation of Hazardous Materials

AGENCY: Postal Service™.

ACTION: Proposed revision; request for comment.

SUMMARY: The Postal Service proposes to amend Publication 52, Hazardous, Restricted, and Perishable Mail (Pub 52), to incorporate requirements for mailers to separate all air-eligible hazardous material (HAZMAT) from surface only transportation HAZMAT shipments and other non-HAZMAT items when tendering mail to the Postal Service in the domestic mail. Air eligible products, services or classes include Priority Mail Express®, Priority Mail®, First-Class Package Service®, Priority Mail Return Service® or First-Class Package Return Service® and surface only transportation are mail using Parcel Select®, Parcel Select Lightweight®, USPS Retail Ground®, or USPS Ground Return Service ®. Additionally, the Postal Service for consistency will incorporate the current standard operating procedures for separation as it pertains to acceptance and dispatch personnel.

DATES: We must receive your comments on or before September 2, 2020.

ADDRESSES: Mail or deliver written comments to the Manager, Product Classification, U.S. Postal Service, 475 L'Enfant Plaza SW, Room 4446, Washington, DC 20260-5015. If sending comments by email, include the name and address of the commenter and send to PCFederalRegister@usps.gov, with a subject line of “HAZMAT Separation”. Faxed comments will not be accepted. All submitted comments and attachments are part of the public record and subject to disclosure. Do not enclose any material in your comments that you consider to be confidential or inappropriate for public disclosure.

You may inspect and photocopy all written comments, by appointment only, at USPS® Headquarters Library, 475 L'Enfant Plaza SW, 11th Floor North, Washington, DC 20260. These records are available for review Monday through Friday, 9 a.m. to 4 p.m. by calling 202-268-2906.

FOR FURTHER INFORMATION CONTACT: Dale Kennedy (202) 268-6592 or Mary Collins (202) 268-5551.

SUPPLEMENTARY INFORMATION: The Postal Service is proposing to amend PUB 52 with the provisions described below and, once adopted, will incorporate the revised PUB 52 by reference into part 113. You may view the text of the proposed edits to PUB 52 at: https://pe.usps.com/.

Air carriers are required to review HAZMAT shipments and complete HAZMAT checklists at the time of acceptance to mitigate risk to aviation. The Postal Service tenders mail, including packages containing both non-hazardous and hazardous materials to its contracted air carriers in sealed containers. Due to the sealed nature of the containers, air carriers are often unaware of the specific hazardous materials they are accepting and transporting. In order to facilitate the review of tendered items, certain air carriers require the Postal Service to separate HAZMAT mail from non-HAZMAT mail and tender the items at a specific time of day.

The Postal Service HAZMAT standard operating procedures state air-eligible HAZMAT must be separated with appropriate documentation from other non-HAZMAT mail for air transportation. The proposed change will require mailers to separate all air-eligible HAZMAT prior to acceptance to allow these pieces to flow in a more efficient manner and prevent co-mingled packages of surface only transportation HAZMAT and non-HAZMAT mail when tendered to air carriers.

Brittany Johnson,
Attorney, Federal Compliance.

[FR Doc. 2020-15774 Filed 7-31-20; 8:45 am]

BILLING CODE 7710-12-P